DEPARTMENT OF JUSTICE

Drug Enforcement Administration

Douglas L. Geiger, M.D.; Denial of Application

On September 24, 2001, the Deputy Assistant Administrator, Office of Diversion Control, Drug Enforcement Administration (DEA), issued an Order to Show Cause to Douglas L. Geiger, M.D. (Dr. Geiger), proposing to deny his pending application for DEA Certificate of Registration as a practitioner, and deny any pending modifications of such application pursuant to 21 U.S.C. 823(f). As a basis for the denial of his pending application, the Order to Show Cause alleged that Dr. Geiger is not currently authorized to handle controlled substances in the State of Georgia. 21 U.S.C. 824(a)(3). The order also notified Dr. Geiger that should no request for a hearing be filed within 30 days, his hearing right would be deemed waived.

The Order to Show Cause was sent by certified mail to Dr. Geiger at a location in Riverdale, Georgia. A second copy of the Order to Show Cause was sent by certified mail to Dr. Geiger at a location in College Park, Georgia. DEA received a signed receipt indicating that the Order to Show Cause was received on behalf of Dr. Geiger at that location. Subsequently, and at Dr. Geiger's request, a copy of the Order to Show Cause was sent to him by facsimile on October 9, 2001. DEA received a printed report indicating that the show cause order had been successfully transmitted to the number provided by Dr. Geiger. DEA has not received a request for hearing or any other reply from Dr. Geiger or anyone purporting to represent him in this matter.

Therefore, the Deputy Administrator, finding that (1) 30 days have passed since the receipt of the Order to Show Cause, and (2) no request for a hearing having been received, concludes that Dr. Geiger is deemed to have waived his hearing right. After considering material from the investigative file in this matter, the Deputy Administrator now enters his final order without a hearing pursuant to 21 CFR 1301.43(d) and (e) and 1301.46.

The Deputy Administrator finds that Dr. Geiger was issued a temporary medical license #0142 on October 6, 1994. That license was extended until December 8, 1994, and subsequently extended on separate occasions until its expiration on October 5, 1995. A second temporary medical license was issued to Dr. Geiger on December 21, 1998, and on February 4, 1999, that license also expired. According to a August 6, 2001 letter contained within the investigative file from the Executive Director of the Composite State Board of Medical Examiners, Dr. Geiger has never been issued a permanent license to practice medicine in the State of Georgia.

DEA does not have statutory authority under the Controlled Substances Act to issue or maintain a registration if the applicant or registrant is without state authority to handle controlled substances in the state in which he conducts business. See 21 U.S.C. 802(21), 823(f) and 824(a)(3). This prerequisite has been consistently upheld. See Carla Johnson, M.D., 66 FR 52939 (2001); Graham Travers Schuler, M.D., 65 FR 50570 (2000); Demetris A. Green, M.D., 61 FR 60,728 (1996).

DEA has also consistently held that a DEA registration may not be maintained if the applicant or registrant lacks state authority to dispense controlled substances, even if such lack of state authorization was the result of the expiration of his/her state registration without further action by the state. See e.g., Mark L. Beck, D.D.S., 64 FR 40899 (1999); Gary D. Benke, M.D., 58 FR 65734 (1993); Carlyle Balgobin, D.D.S., 58 FR 46992 (1993); Charles H. Ryan, M.D., 58 FR 14430 (1993); James H. Nickens, M.D., 57 FR 59847 (1992).

In the instant case, the Deputy Administrator finds that there is evidence demonstrating that Dr. Geiger is not authorized to handle controlled substances in Georgia, the State in which he seeks a DEA registration. Since Dr. Geiger lacks such authority, he is not entitled to a DEA registration in that state.

Accordingly, the Deputy Administrator of the Drug Enforcement Administration, pursuant to the authority vested in him by 21 U.S.C. 823 and 824 and 28 CFR 0.100(b) and 0.104, hereby orders that the application for DEA Certificate of Registration submitted by Douglas L. Geiger, M.D. be, and it hereby is denied. This order is effective November 14, 2002.

Dated: September 30, 2002.
John B. Brown III,
Deputy Administrator.

[FR Doc. 02-26164 Filed 10-11-02; 8:45 am]

BILLING CODE 4410-09-M